ENVIRONMENTAL PROTECTION AGENCY

40 CFR Part 52

[EPA-R05-OAR-2021-0544; FRL-12175-04-R5]

Air Plan Approval; Ohio; Regional Haze Plan for the Second Implementation Period

AGENCY: Environmental Protection Agency (EPA).

ACTION: Proposed rule; reopening of comment period.

SUMMARY: The Environmental Protection Agency (EPA) is reopening the public comment period for 15 days for a proposed rule published August 30, 2024. Reopening the public comment period is focused exclusively on the references to various permit conditions within three Director's Final Findings and Orders (DFFOs) included in the docket that were issued by the Ohio Environmental Protection Agency (Ohio EPA) as those conditions apply to the limits in the DFFOs for Cardinal Power Plant, Ohio Valley Electric Corp.—Kyger Creek, and General James M. Gavin Power Plant.

DATES: The comment period for the proposed rule published August 30, 2024, at 89 FR 71124, which ended on September 30, 2024, and was extended until October 15, 2024, at 89 FR 76442, is being reopened. Comments must be received on or before March 17, 2025.

ADDRESSES: Submit your comments, identified by Docket ID No. EPA-R05-OAR-2021-0544, at https://www.regulations.gov, or via email to langman.michael@epa.gov. Additional instructions to comment can be found in the notice of proposed rulemaking published August 30, 2024 (89 FR 71124).

FOR FURTHER INFORMATION CONTACT: Alisa Liu, Air and Radiation Division (AR-18J), Environmental Protection Agency, Region 5, 77 West Jackson Boulevard, Chicago, Illinois 60604, (312) 886-6524, liu.alisa@epa.gov.

SUPPLEMENTARY INFORMATION: On August 21, 2024 (89 FR 71124), EPA proposed to approve the Regional Haze State Implementation Plan (SIP) revision submitted by Ohio EPA on July 30, 2021, as satisfying applicable requirements under the Clean Air Act and EPA's Regional Haze Rule for the program's second implementation period. The previous public comment period for the proposed rule ran for 45 days and ended October 15, 2024. In the notice of proposed rulemaking, EPA proposed, among other things, to incorporate by reference three DFFOs issued by Ohio EPA into Ohio's SIP at 40 CFR 52.1870(d). Although the DFFOs were included in the docket at the time when the notice of proposed rulemaking was published on August 30, 2024, the permit conditions referenced within the three DFFOs were not made available in www.regulations.gov until December 23, 2024, due to an oversight. EPA is, therefore, reopening the public comment period for 15 days focused exclusively on the references to the various permit conditions within these three DFFOs as they apply to the limits in the DFFOs.

The referenced permit conditions that were not included in the docket for this rulemaking at the time of the initial public comment period are contained in the permits listed below:

• Cardinal Power Plant: title V Permit, Ohio EPA Permit P0133672

• Ohio Valley Electric Corp.—Kyger Creek: title V Permit, Ohio EPA Permit P0089199

• General James M. Gavin Power Plant: title V Permit, Ohio EPA Permit P0134437

These three permits were publicly available through Ohio EPA's website ¹ when the notice of proposed rulemaking was published on August 30, 2024, and EPA has now added them to the docket for this rulemaking.

¹ General James M. Gavin Power Plant: title V Operating Permit, Ohio EPA Permit P0134437: https://edocpub.epa.ohio.gov/publicportal/ViewDocument.aspx?docid=2661778; Cardinal Power Plant: title V Operating Permit, Ohio EPA Permit P0133672: https://edocpub.epa.ohio.gov/publicportal/ViewDocument.aspx?docid=2628351; Ohio Valley Electric Corp.—Kyger Creek: title V Operating Permit, Ohio EPA Permit P0089199: https://edocpub.epa.ohio.gov/publicportal/ViewDocument.aspx?docid=1777386.

EPA proposed to incorporate by reference these three DFFOs as well as a DFFO for Miami Fort and Zimmer Power Stations into Ohio's SIP at 40 CFR 52.1870(d) in the notice of proposed rulemaking. EPA is clarifying that EPA is doing so in accordance with requirements of 1 CFR 51.5 and by including regulatory text in the final rule.

As noted in the notice of proposed rulemaking, the DFFOs provide for on-the-way controls. The DFFO for Miami Fort Power Station provides for the permanent shutdown of coal-fired Boilers B015 and B016, and for Zimmer Power Station, provides for the permanent shutdown of coal-fired Boiler B006. The DFFO for Cardinal Power Plant provides for a sulfur dioxide (SO2) emission limit on coal-fired Boilers B001, B002, and B009, which was previously approved by EPA into Ohio's SIP on October 22, 2019 (84 FR 56385), and references conditions of Ohio EPA permit number P0133672 for C.1.d)(1)-(11), C.1.e)(1)-(5), and C.1.f)(1)-(2). The DFFO for Ohio Valley Electric Corp.—Kyger Creek provides for a new nitrogen oxides emission limit on coal-fired Boilers B001, B002, B003, B004, and B005, and references conditions of Ohio permit number P0089199 for C.4.d)(1)-(7), C.4.e)(1)-(6), and C.4.f)(1)-(3). The DFFO for General James M. Gavin Power Plant provides for a new SO2 emission limit on coal-fired Boilers B003 and B004, and references conditions of Ohio permit number P0134437 for C.8.d)(1)-(11), C.8.e)(1)-(4) and, C.8.f)(1)-(2).

Dated: February 11, 2025.
Cheryl Newton,
Acting Regional Administrator, Region 5.

[FR Doc. 2025-03196 Filed 2-27-25; 8:45 am]

BILLING CODE 6560-50-P